DEPARTMENT OF HOUSING AND URBAN DEVELOPMENT

[Docket No. FR-5828-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040 Washington, DC 20405, (202) 501-0084; COE: Mr. Scott Whiteford, Army Corps of Engineers, Real Estate, CEMP-CR, 441 G Street NW., Washington, DC 20314; (202) 761-5542 NAVY: Mr. Steve Matteo, Department of the Navy, Asset Management; Division, Naval Facilities Engineering Command, Washington Navy Yard, 1330 Patterson Ave. SW., Suite 1000, Washington, DC 20374; (202) 685-9426 (These are not toll-free numbers).

Dated: May 28, 2015.
Brian P. Fitzmaurice,
Director, Division of Community Assistance, Office of Special Needs Assistance Programs.

TITLE V, FEDERAL SURPLUS PROPERTY PROGRAM

Federal Register Report for 06/05/2015

Suitable/Available Properties

Building

Minnesota

Erving L. Peterson Memorial

USARC

1813 Industrial Blvd.

Fergus Falls MN 56537

Landholding Agency: GSA

Property Number: 54201520012

Status: Excess

GSA Number: 1-D-MN-0599-AA

Directions: Disposal Agency: GSA; Landholding Agency: US Army Reserve Command

Comments: The property consist of a 6 acre parcel of land w/an 18,537 sf admin. bldg. and 1,548 sf maintenance bldg.; contact GSA for more information

Suitable/Available Properties

Land

New York

QTP Radio Comm. Link

Repeater Facility

N. of Tennanah Rd.

Fremont NY 12736

Landholding Agency: GSA

Property Number: 54201510006

Status: Excess

GSA Number: 1-U-NY-0988-AA

Directions: Disposal Agency: GSA; Landholding Agency: FAA

Comments: Approx. 4.99 acres; deeded access road to property; adjacent property has metal gate; ongoing discussions w/owner to remove gate; contact GSA for more information

Former ELM Directional Finder

N. of Halderman Hollow Rd.

Big Flats NY 14903

Landholding Agency: GSA

Property Number: 54201520004

Status: Excess

GSA Number: 1-U-NY-0990-AA

Directions: Disposal Agency: GSA; Land Holding Agency: Federal Aviation Admin.

Comments: Reversed Suitability Determination: Approx. 0.57 acres; deeded right of way for access to site; contact GSA for more information

Unsuitable Properties

Building

California

2 Buildings

1 Administration Circle

China Lake CA 93555

Landholding Agency: Navy

Property Number: 77201520013

Status: Excess

Directions: 01298; 01298SUB

Comments: public access denied and no alternative method to gain access without compromising national security

Reasons: Secured Area

6 Buildings

311 Main Street

Pt. Mugu CA 93043

Landholding Agency: Navy

Property Number: 77201520014

Status: Unutilized

Directions:

PM557; PM566; PM568; PM569; PM570; PM571

Comments: public access denied and no alternative method to gain access without compromising national security

Reasons: Secured Area

West Virginia

BSAELT-23108, Storage Building

638 Overlook Trail Rd.

East Lynn WV 25512

Landholding Agency: COE

Property Number: 31201520006

Status: Unutilized

Comments: pubic access denied and no alternative method to gain access without compromising national security

Reasons: Secured Area

Unsuitable Properties

Land

Hawaii

Land Only; 12,555 Sq. Ft.

Joint Base Pearl Harbor

Hickam HI

Landholding Agency: Navy

Property Number: 77201520012

Status: Underutilized

Comments: public access denied and no alternative method to gain access without compromising national security

Reasons: Secured Area

Mississippi

Excess Land; 22.9 Acres

Btw. 7th & 9th Streets

Goodier Ave. & Upper Nixon Ave.

Gulfport MS

Landholding Agency: Navy

Property Number: 77201520017

Status: Unutilized

Comments: public access denied and no alternative method to gain access without compromising national security

Reasons: Secured Area

[FR Doc. 2015-13392 Filed 6-4-15; 8:45 am]

BILLING CODE 4210-67-P